SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Director, 107 Altmeyer Building, 6401 Security Blvd., Baltimore, MD 21235, Fax: 410-966-2830, Email address: OPLM.RCO@ssa.gov.

SSA submitted the information collections below to OMB for clearance. Your comments regarding the information collections would be most useful if OMB and SSA receive them 30 days from the date of this publication. To be sure we consider your comments, we must receive them no later than July 16, 2012. Individuals can obtain copies of the OMB clearance packages by writing to OPLM.RCO@ssa.gov.

1. Waiver of Right to Appear—Disability Hearing—20 CFR 404.913-404.914, 404.916(b)(5), 416.1413-416.1414, 416.1416(b)(5)—0960-0534. Claimants for Social Security disability payments or their representatives can use Form SSA-773 to officially waive their right to appear at a disability hearing. The disability hearing officer uses the signed form as a basis for not holding a hearing, and for preparing a written decision on the claimant's request for disability payments based solely on the evidence of record. The respondents are claimants for disability payments under title II and title XVI of the Social Security Act (Act), or their representatives, who wish to waive their right to appear at a disability hearing.

Type of Request: Revision of an OMB-approved information collection.

Collection instrument | Number of respondents | Frequency of response | Average burden per response (minutes) | Estimated total annual burden (hours)
SSA-773 | 200 | 1 | 3 | 10

2. Youth Transition Process Demonstration Evaluation Data Collection—0960-0687.

Background

The purpose of the Youth Transition Demonstration (YTD) project is to help young people with disabilities make the transition from school to work. While participating in the project, youth can continue to work or continue their education because SSA waives certain disability program rules and offers services to youth who are receiving disability benefits or have a high probability of receiving them. We are currently implementing YTD projects in three sites across the country. Three other sites completed service delivery and closed. The evaluation will produce empirical evidence on the effects of the waivers and project services including (1) educational attainment, (2) employment, (3) earnings, (4) receipt of benefits by youth with disabilities, and (5) Social Security Trust Fund and Federal income tax revenues. Sections 1110 and 234 of the Act authorize this project.

Project Description

Given the importance of estimating YTD effects as accurately as possible, we are evaluating the project using rigorous analytic methods based on randomly assigning youth to a treatment or control group. We conducted several data collections. These included: (1) Baseline interviews with youth and their parents or guardians prior to random assignment; (2) follow-up interviews at 12 months after random assignment; (3) interviews and roundtable discussions with local program administrators, program supervisors, and service delivery staff; and (4) focus groups of youths, their parents, and service providers. We are currently collecting follow-up interviews at 36 months after random assignment. We began collecting information for YTD in 2007, and we will conclude data collection for the project in 2013. The respondents are youths with disabilities enrolled in the project; their parents or guardians; program staff; and service providers.

Type of Request: Extension of an OMB-approved information collection.

FY 2012 Data
Data collection year | Collection | Number of respondents | Responses per respondent | Average burden per response (hours) | Total response burden (hours)
2012 | 36 Month Follow-up | 364 | 1 | 0.83 | 302
Total |  |  |  |  | 302

Combined Data From 2007—2013
Data collection year | Collection | Number of respondents | Responses per respondent | Average burden per response (hours) | Total response burden (hours)
All Years | Baseline | 5,651 | 1 | 0.55 | 3,108
| Informed Consent | 5,651 | 1 | .083 | 469
| 12 Month Follow-up | 4,752 | 1 | .83 | 3,944
| In-depth Interviews | 240 | 1 | .42 | 101
| Focus Group | 440 | 1 | 1.5 | 660
| Program Staff/Service Provider | 192 | 1 | 1 | 192
| 36 Month Follow-up | 3,962 | 1 | .83 | 3,288
Grand Total |  |  |  |  | 11,762

3. Identifying Information for Possible Direct Payment of Authorized Fees—0960-0730. SSA collects information from claimants' appointed representatives on Form SSA-1695 to (1) process and facilitate direct payment of authorized fees; (2) issue a Form 1099-MISC, if applicable; and (3) establish a link between each claim for benefits and the data we collect on the SSA-1699 for our appointed representative database. The respondents are attorneys and other individuals who represent claimants for benefits before SSA.

Type of Request: Revision of an OMB approved information collection.

Collection instrument | Number of respondents | Frequency of response | Average burden per response (minutes) | Estimated total annual burden (hours)
SSA-1695 | 10,000 | 40 | 10 | 66,667

4. Electronic Records Express—0960-0753. Electronic Records Express (ERE) is a web-based SSA program allowing medical providers to electronically submit disability claimant data to SSA. Both medical providers and other third parties with connections to disability applicants or recipients can use this system. The respondents are medical providers who evaluate or treat disability claimants or recipients and are ERE users.

Type of Request: Extension of an OMB-approved information collection.

Collection instrument | Number of respondents | Frequency of response | Average burden per response (minutes) | Estimated total annual burden (hours)
ERE | 3,552,176 | 1 | 10 | 592,029

5. Request to Pay Civil Monetary Penalty by Installment Agreement—20 CFR 498—0960-0776. When SSA imposes a civil monetary penalty (CMP) for various fraudulent conduct related to SSA-administrated programs on individuals, those individuals may ask to pay the CMP through an installment agreement. For SSA to negotiate a monthly payment amount fair to both the individual and the agency, SSA needs financial information from the individual. The agency uses Form SSA-640 to obtain the information necessary to determine a repayment rate for individuals owing a CMP. The respondents are recipients of Social Security benefits and non-entitled individuals who must repay a CMP to the agency and want to do so using an installment plan.

Type of Request: Revision of an OMB-approved information collection.

Collection instrument | Number of responses | Frequency of response | Average burden per response (minutes) | Estimated total annual burden (hours)
SSA-640 | 400 | 1 | 120 | 800

Dated: June 11, 2012.
Faye Lipsky,
Reports Clearance Director, Office of Regulations and Reports Clearance, Social Security Administration.

[FR Doc. 2012-14550 Filed 6-13-12; 8:45 am]

BILLING CODE 4191-02-P